FEDERAL ELECTION COMMISSION

[Notice 2018-02]

Filing Dates for the Ohio Special Election in the 12th Congressional District

AGENCY: Federal Election Commission.

ACTION: Notice of filing dates for special elections.

SUMMARY: Ohio has scheduled special elections on May 8, 2018, and August 7, 2018, to fill the U.S. House of Representatives seat in the 12th Congressional District vacated by Representative Patrick J. Tiberi.

Committees required to file reports in connection with the Special Primary Election on May 8, 2018, shall file a 12-day Pre-Primary Report. Committees required to file reports in connection with both the Special Primary and Special General Election on August 7, 2018, shall file a 12-day Pre-Primary, 12-day Pre-General Report and a 30-day Post-General Report.

FOR FURTHER INFORMATION CONTACT: Ms. Elizabeth S. Kurland, Information Division, 999 E Street NW, Washington, DC 20463; Telephone: (202) 694-1100; Toll Free (800) 424-9530.

SUPPLEMENTARY INFORMATION:

Principal Campaign Committees

All principal campaign committees of candidates who participate in the Ohio Special Primary and Special General Elections shall file a 12-day Pre-Primary Report on April 26, 2018; a 12-day Pre-General Report on July 26, 2018; and a 30-day Post-General Report on September 6, 2018. (See charts below for the closing date for each report.)

All principal campaign committees of candidates participating only in the Special Primary Election shall file a 12-day Pre-Primary Report on April 26, 2018. (See charts below for the closing date for each report.)

Unauthorized Committees (PACs and Party Committees)

Political committees filing on a quarterly basis in 2018 are subject to special election reporting if they make previously undisclosed contributions or expenditures in connection with the Ohio Special Primary or Special General Elections by the close of books for the applicable report(s). (See charts below for the closing date for each report.)

Committees filing monthly that make contributions or expenditures in connection with the Ohio Special Primary or Special General Elections will continue to file according to the monthly reporting schedule.

Additional disclosure information in connection with the Ohio Special Elections may be found on the FEC website at https://www.fec.gov/help-candidates-and-committees/dates-and-deadlines/.

Disclosure of Lobbyist Bundling Activity

Principal campaign committees, party committees and Leadership PACs that are otherwise required to file reports in connection with the special elections must simultaneously file FEC Form 3L if they receive two or more bundled contributions from lobbyists/registrants or lobbyist/registrant PACs that aggregate in excess of the lobbyist bundling disclosure threshold during the special election reporting periods (See charts below for closing date of each period.) 11 CFR 104.22(a)(5)(v), (b).

The lobbyist bundling disclosure threshold for calendar year 2017 is $17,900. This threshold amount may increase in 2018 based upon the annual cost of living adjustment (COLA). Once the adjusted threshold amount becomes available, the Commission will publish it in the Federal Register and post it on its website. 11 CFR 110.17(e)(2). For more information on these requirements, see Federal Register Notice 2009-03, 74 FR 7285 (February 17, 2009).

Calendar of Reporting Dates for Ohio Special Elections
Report | Close of books ¹ | Reg./cert and overnight mailing deadline | Filing deadline
Committees Involved in Only the Special Primary (05/08/18) Must File
Pre-Primary | 04/18/18 | 04/23/18 | 04/26/18
July Quarterly | 06/30/18 | 07/15/18 | ² 07/15/18
Committees Involved in Both the Special Primary (05/08/18) and Special General (08/07/18) Must File
Pre-Primary | 04/18/18 | 04/23/18 | 04/26/18
July Quarterly | 06/30/18 | 07/15/18 | ² 07/15/18
Pre-General | 07/18/18 | 07/23/18 | 07/26/18
Post-General | 08/27/18 | 09/06/18 | 09/06/18
October Quarterly | 09/30/18 | 10/15/18 | 10/15/18
Committees Involved in Only the Special General (08/07/18) Must File
Pre-General | 07/18/18 | 07/23/18 | 07/26/18
Post-General | 08/27/18 | 09/06/18 | 09/06/18
October Quarterly | 09/30/18 | 10/15/18 | 10/15/18
¹ The reporting period always begins the day after the closing date of the last report filed. If the committee is new and has not previously filed a report, the first report must cover all activity that occurred before the committee registered as a political committee up through the close of books for the first report due.
² Notice that this filing deadline falls on a weekend or federal holiday. Filing deadlines are not extended when they fall on nonworking days. Accordingly, reports filed by methods other than registered, certified or overnight mail must be received by close of business on the last business day before the deadline.

Dated: January 17, 2018.
On behalf of the Commission.
Caroline C. Hunter,
Chair, Federal Election Commission.

[FR Doc. 2018-01075 Filed 1-22-18; 8:45 am]

BILLING CODE 6715-01-P